DEPARTMENT OF DEFENSE

Office of the Secretary

[Docket ID: DoD-2021-OS-0039]

Proposed Collection; Comment Request

AGENCY: Office of the Under Secretary of Defense for Personnel and Readiness, Department of Defense (DoD).

ACTION: Information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 26, 2021.

ADDRESSES: You may submit comments, identified by docket number and title, by any of the following methods:

Federal eRulemaking Portal: http://www.regulations.gov. Follow the instructions for submitting comments.

Mail: The DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to RAND Corporation, 1776 Main Street, Santa Monica, California 90401, Susan Gates, 917-601-3120.

SUPPLEMENTARY INFORMATION: Title; Associated Form; and OMB Number: Understanding Employer Experiences Under Continuing Reserve Component Operations; OMB Control Number 0704-ESGR.

Needs and Uses: In accordance with 10 United States Code, Section 2358, the Under Secretary of Defense for Personnel and Readiness (USD[P&R]) is required to conduct research of interest to the Department of Defense (DoD). This research of interest to DoD requires the collection and dissemination of information from employers about their views on employing members of the National Guard and Reserve (G&R). The data RAND collects via the survey vendor will be used to provide descriptive information about the experiences and views of employers with respect to employing G&R members as civilians. Findings will inform leadership of the experiences and opinions of G&R personnel and used in a review of G&R policies and programs and could be used to change the strategic communications with and outreach to civilian employers.

Affected Public: Individuals or households.

Annual Burden Hours: 1,642 hours.

Number of Respondents: 3,284.

Responses per Respondent: 1.

Annual Responses: 3,284.

Average Burden per Response: 30 minutes.

Frequency: On occasion.

Dated: May 19, 2021.
Aaron T. Siegel,
Alternate OSD Federal Register Liaison Officer, Department of Defense.

[FR Doc. 2021-11180 Filed 5-26-21; 8:45 am]

BILLING CODE 5001-06-P